DEPARTMENT OF TRANSPORTATION

Federal Aviation Administration

Twenty Fourth Meeting: RTCA Special Committee 213, Enhanced Flight Vision Systems/Synthetic Vision Systems (EFVS/SVS)

AGENCY: Federal Aviation Administration (FAA), U.S. Department of Transportation (DOT).

ACTION: Meeting notice of RTCA Special Committee 213, Enhanced Flight Vision Systems/Synthetic Vision Systems (EFVS/SVS).

SUMMARY: The FAA is issuing this notice to advise the public of the twenty fourth meeting of the RTCA Special Committee 213, Enhanced Flight Vision Systems/Synthetic Vision Systems (EFVS/SVS).

DATES: The meeting will be held October 8-9, 2013 from 9:00 a.m.-5:00 p.m. and October 10, 2013 from 9:00 a.m.-3:00 p.m.

ADDRESSES: The meeting will be held at SAIC, 1515 Wilson Blvd., Arlington, Virginia 22209.

FOR FURTHER INFORMATION CONTACT: The RTCA Secretariat, 1150 18th Street NW., Suite 910, Washington, DC 20036, or by telephone at (202) 330-0652/(202) 833-9339, fax at (202) 833-9434, or Web site at http://www.rtca.org. Additional contact information: please contact Patrick Krohn, pkrohn@uasc.com, telephone (425) 602-1375 or mobile at (425) 829-1996. RTCA contact is Jennifer Iverson, jiverson@rtca.org, (202) 330- 0662.

SUPPLEMENTARY INFORMATION: Pursuant to section 10(a) (2) of the Federal Advisory Committee Act (Pub. L. 92-463, 5 U.S.C., App.), notice is hereby given for a meeting of Special Committee 213. The agenda will include the following:

Tuesday, October 8, 2013

Plenary Discussion (sign in at 9:00 a.m.)

• Introductions and administrative items

• Review and approve minutes from last full plenary meeting

• Review of terms of reference

• Status of DO-342A and DO-315C Drafts

• Industry updates

• DO-315C and DO-342A draft review

Wednesday, October 9, 2013

Plenary Discussion

• WG-1 DO-315C draft review

• WG-2 DO-342A draft review

Thursday, October 10, 2013

Plenary Discussion

• WG-1 DO-315C draft review

• WG-1 DO-342A draft review

• Administrative items

• Adjourn

Attendance is open to the interested public but limited to space availability. With the approval of the chairman, members of the public may present oral statements at the meeting.

Persons wishing to present statements or obtain information should contact the person listed in the FOR FURTHER INFORMATION CONTACT section. Members of the public may present a written statement to the committee at any time.

Issued in Washington, DC, on September 5, 2013.
Paige Williams,
Management Analyst, NextGen, Business Operations Group, Federal Aviation Administration.

[FR Doc. 2013-22102 Filed 9-10-13; 8:45 am]

BILLING CODE 4910-13-P